DEPARTMENT OF HEALTH AND HUMAN SERVICES

National Institutes of Health

National Library of Medicine Amended Notice of Meeting

Notice is hereby given of a change in the meeting of the Board of Regents, February 9-10, 2021, 9:00 a.m. to 5:00 p.m. at the National Institutes of Health, Building 38, Lindberg Room, 8600 Rockville Pike, Bethesda, MD 20892 which was published in the Federal Register on November 20, 2020, 85 FR 225, Page 74361.

This notice is being amended to change the meeting to a one-day meeting on February 9, 2021 and the time change to 10 a.m. to 4:45 p.m. The URL link to this meeting is: https://videocast.nih.gov. Any member of the public may submit written comments no later than 15 days after the meeting.

Dated: January 5, 2021.
Ronald J. Livingston, Jr.,
Program Analyst, Office of Federal Advisory Committee Policy.

[FR Doc. 2021-00186 Filed 1-8-21; 8:45 am]

BILLING CODE 4140-01-P